DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received within 60 days of this notice.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Special Study—Emerging Issues Related to Affordable Care Act Implementation: The Future of Ryan White HIV/AIDS Services: A Snapshot of Outpatient Ambulatory Medical Care

OMB No. 0915-xxxx-New.

Abstract: The Health Resources and Services Administration, HIV/AIDS Bureau (HRSA/HAB) administers the Ryan White HIV/AIDS Program (RWHAP) authorized under Title XXVI of the Public Health Service Act as amended by the Ryan White HIV/AIDS Treatment Extension Act of 2009. This program provides HIV-related services in the United States for individuals who do not have sufficient health care coverage or financial resources for coping with HIV disease. Starting January 1, 2014, the Affordable Care Act will begin making health care coverage available to many HIV-positive individuals who did not previously have access to such coverage. This Affordable Care Act expansion of health coverage will impact a significant portion of RWHAP's traditional clients who will be moving into third party reimbursement care. The transition will require increased support and coordination to ensure clients do not experience gaps in coverage or gaps in care. The purpose of this evaluation study is to assess the current status of Ryan White HIV/AIDS program services during the early and later stages of Affordable Care Act implementation and to collect information on service provisions, quality of care, barriers, gaps, and challenges related to Affordable Care Act implementation.

Need and Proposed Use of the Information: The Affordable Care Act will offer new options for obtaining health care services for many individuals with HIV. Due to these changes, additional information concerning staffing, continuity and coordination of care, and utilization of RWHAP funds to provide essential services is necessary. Data from this evaluation study will be used to assess the current status of Ryan White HIV/AIDS program services during the early (January 2014-June 2014) and later (July 2014-December 2014) stages of Affordable Care Act implementation and how well the RWHAP is positioned to improve clinical outcomes, including viral suppression, retention to care, and linkage to care services.

Likely Respondents: HIV/AIDS Care Providers.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden Hours
Form name | Number of respondents | Number of responses per respondent | Total responses | Average burden per response (in hours) | Total burden hours
Site Staff Interviews—Early Implementation | 90 | 1 | 90 | 2.0 | 180
Site Staff Interviews—Later Implementation | 90 | 1 | 90 | 1.0 | 90
List of Site HIV Outpatient Ambulatory Medicare Care Visit Activities/Services | 30 | 1 | 30 | 0.5 | 15
Total | 180 |  | 180 |  | 285

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Dated: December 24, 2013.
Bahar Niakan,
Director, Division of Policy and Information Coordination.

[FR Doc. 2013-31473 Filed 1-2-14; 8:45 am]

BILLING CODE 4165-15-P